DEPARTMENT OF ENERGY

Federal Energy Regulatory Commission

[Docket No. RP03-13-000]

Transcontinental Gas Pipe Line Corporation; Notice of Tariff Filing

October 9, 2002.

Take notice that on October 4, 2002, Transcontinental Gas Pipe Line Corporation (Transco), tendered for filing as part of its FERC Gas Tariff, Third Revised Volume No. 1, 1st Revised Fourth Revised Sheet No. 3740 and Original Sheet No. 3740.00, which tariff sheets are proposed to have an effective date of December 1, 2002.

Transco states that the instant filing is submitted pursuant to the Commission's Regulation of Short-Term Natural Gas Transportation Services and Regulation of Interstate Natural Gas Transportation Services in Docket Nos. RM98-10 and RM98-12, et. al. (Order No. 637). In Order No. 637, the Commission, among other things, revised its regulations regarding the availability of the Right-of-First-Refusal (ROFR).

Specifically, 18 CFR 284.221(d)(2)(ii) provides that the ROFR will be applicable to contracts at the applicable maximum rate with either (1) a term of service of at least 12 consecutive months or (2) for a service which is not available for 12 consecutive months, a contract term of more than one year. Additionally, a shipper receiving firm service at less than the applicable maximum rate pursuant to a service agreement executed prior to March 26, 2000 that meets the foregoing term criteria, will also be eligible for a right of first refusal; provided however, the right of first refusal will not apply to a re-executed service agreement unless it is at the applicable maximum rate.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-26256 Filed 10-15-02; 8:45 am]

BILLING CODE 6717-01-P